DEPARTMENT OF COMMERCE

International Trade Administration

[A-201-847]

Heavy Walled Rectangular Welded Carbon Steel Pipes and Tubes From Mexico: Amended Final Results of Antidumping Duty Administrative Review; 2022-2023

AGENCY: Enforcement and Compliance, International Trade Administration, Department of Commerce.

SUMMARY: The U.S. Department of Commerce (Commerce) is amending the final results of the administrative review of the antidumping duty order on heavy-walled rectangular welded carbon steel pipes and tubes (HWR) from Mexico. This notice amends the cash deposit rate for Maquilacero S.A. de C.V. (Maquilacero). The period of review (POR) is September 01, 2022, through August 31, 2023.

DATES: Applicable September 8, 2025.

FOR FURTHER INFORMATION CONTACT: Katie Smith, AD/CVD Operations, Office II, Enforcement and Compliance, International Trade Administration, U.S. Department of Commerce, 1401 Constitution Avenue NW, Washington, DC 20230; telephone: (202) 482-0557.

SUPPLEMENTARY INFORMATION:

Background

On June 24, 2025, Commerce published in the Federal Register the Final Results of the 2022-2023 administrative review ¹ of the antidumping duty order on HWR from Mexico.² On August 1, 2025, Commerce received a timely filed allegation from Maquilacero with regard to its final weighted-average dumping margin.³ No other interested party submitted comments. Commerce is amending the Final Results to correct these ministerial errors.

¹ See Heavy Walled Rectangular Welded Carbon Steel Pipes and Tubes from Mexico: Final Results of Antidumping Duty Administrative Review; 2022-2023, 90 FR 34842 (July 24, 2025) (Final Results), and accompanying Issues and Decision Memorandum (IDM).

² See Heavy Walled Rectangular Welded Carbon Steel Pipes and Tubes from the Republic of Korea, Mexico, and the Republic of Turkey: Antidumping Duty Orders, 81 FR 62865 (September 13, 2016) (Order).

³ See Maquilacero's Letter, “Ministerial Error Comments for the Final Results,” dated August 1, 2025.

Legal Framework

Section 751(h) of the Tariff Act of 1930, as amended (the Act), defines a “ministerial error” as including “errors in addition, subtraction, or other arithmetic function, clerical errors resulting from inaccurate copying, duplication, or the like, and any other unintentional error which the administering authority considers ministerial.” ⁴ With respect to final results of administrative reviews, 19 CFR 351.224(e) provides that Commerce “will analyze any comments received and, if appropriate, correct any . . . ministerial error by amending the final results of review . . . {.}”

⁴ See 19 CFR 351.224(f).

Ministerial Error

Commerce reviewed the record and finds that errors alleged by Maquilacero constitute a ministerial error within the meaning of section 751(h) of the Act and 19 CFR 351.224(f).⁵ Specifically, we find that the programming error present in Maquilacero's final margin calculation which excluded certain U.S. sales in our analysis, was an inadvertent error which we consider ministerial. Pursuant to 19 CFR 351.224(e), Commerce is amending the Final Results to reflect the correction of the ministerial error. Based on the correction, Maquilacero's final weighted-average dumping margin changed from 7.77 percent to 7.02 percent.

⁵ See Memorandum, “Analysis of Ministerial Error Allegations,” dated August 22, 2025 (Ministerial Error Memorandum). In this memorandum, Commerce inadvertently stated that after making the corrections, Maquilacero's calculated weighted-average dumping margin did not change from the Final Results.

For a complete discussion of the ministerial error allegation, as well as Commerce's analysis, see the Ministerial Error Memorandum. The Ministerial Error Memorandum is on file electronically via ACCESS. ACCESS is available to registered users at https://access.trade.gov.

Amended Final Results of Review

As a result of correcting the ministerial error, Commerce determines that the estimated weighted-average dumping margin of 7.02 percent exists for Maquilacero for the period of September 1, 2022, through August 31, 2023.

Disclosure

On August 22, 2025, Commerce disclosed Maquilacero's revised calculations.⁶ Thus, there are no additional details or calculations to disclose for these amended final results.

⁶ See Memorandum, “Amended Final Results Margin Calculation for Maquilacero S.A. de C.V.,” dated August 22, 2025.

Assessment Rates

Pursuant to section 751(a)(2)(C) of the Act and 19 CFR 351.212(b)(1), Commerce will determine, and U.S. Customs and Border Protection (CBP) shall assess, antidumping duties on all appropriate entries of subject merchandise in accordance with the amended final results of this review. The amended final results of this review shall be the basis for the assessment of antidumping duties on entries of merchandise covered by the amended final results of this review and for future deposits of estimated duties, where applicable.⁷

⁷ See section 751(a)(2)(C) of the Act.

Pursuant to 19 CFR 351.212(b)(1), we calculated importer-specific ad valorem duty assessment rates based on the ratio of the total amount of dumping calculated for each importer's examined sales and the total entered value of those sales. Where either the respondent's weighted-average dumping margin is zero or de minimis within the meaning of 19 CFR 351.106(c)(1), or an importer-specific assessment rate is de minimis (i.e., less than 0.5 percent), we will instruct CBP to liquidate the appropriate entries without regard to antidumping duties.

For entries of subject merchandise during the POR produced by Maquilacero for which it did not know that its merchandise was destined for the United States, we will instruct CBP to liquidate such entries at the all-others rate established in the less-than-fair-value (LTFV) investigation of 4.91 percent ad valorem,⁸ if there is no rate for the intermediate company(ies) involved in the transaction.

⁸ See Order, 81 FR at 62867.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

For Maquilacero, the firm for which Commerce is amending the cash deposit rate, antidumping duties shall be assessed at a rate equal to the cash deposit of estimated antidumping duties required at the time of entry, or withdrawal from warehouse, for consumption in accordance with 19 CFR 351.212(c)(1)(i). The cash deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in Commerce's presumption that reimbursement of the antidumping duties occurred and the subsequent assessment of doubled antidumping duties.

Administrative Protective Order (APO)

This notice also serves as a reminder to parties subject to APO of their responsibility concerning the return or destruction of proprietary information disclosed under APO in accordance with 19 CFR 351.305(a)(3). Timely written notification of the return/destruction of APO materials or conversion to judicial protective order is hereby requested. Failure to comply with the regulations and terms of an APO is a violation which is subject to sanction.

Notification to Interested Parties

We are issuing and publishing these amended final results of administrative review in accordance with sections 751(a)(1) and 777(i)(1) of the Act, and 19 CFR 351.224(e).

Dated: September 3, 2025.
Christopher Abbott,
Deputy Assistant Secretary for Policy and Negotiations, performing the non-exclusive functions and duties of the Assistant Secretary for Enforcement and Compliance.

[FR Doc. 2025-17128 Filed 9-5-25; 8:45 am]

BILLING CODE 3510-DS-P